DEPARTMENT OF EDUCATION

34 CFR Chapter VI

[Docket ID ED-2014-OPE-0037; CFDA Number 84.229A]

Final Priority; Language Resource Centers Program

AGENCY: Office of Postsecondary Education (OPE), Department of Education.

ACTION: Final Priority.

SUMMARY: The Acting Assistant Secretary for Postsecondary Education announces a priority under the Language Resource Centers (LRC) Program administered by the International and Foreign Language Education Office. The Acting Assistant Secretary may use this priority for competitions in fiscal year (FY) 2014 and later years. We take this action to focus Federal financial assistance on an identified national need. We intend the priority to make international education opportunities available to more American students.

DATES: Effective Date: This priority is effective July 7, 2014.

FOR FURTHER INFORMATION CONTACT: Michelle Guilfoil. Telephone: (202) 502-7625 or by email: michelle.guilfoil@ed.gov.

If you use a telecommunications device for the deaf (TDD) or a text telephone (TTY), call the Federal Relay Service (FRS), toll free, at 1-800-877-8339.

SUPPLEMENTARY INFORMATION: Purpose of Program: The LRC Program provides grants to institutions of higher education or consortia of these institutions for establishing, strengthening, and operating centers that serve as resources for improving the Nation's capacity for teaching and learning foreign languages through teacher training, research, materials development, and dissemination projects.

Program Authority: 20 U.S.C. 1123.

Applicable Program Regulations: 34 CFR parts 655 and 669.

We published a notice of proposed priority for this program in the Federal Register on March 18, 2014 (79 FR 15074). That notice contained background information and our reasons for proposing this particular priority.

There are differences between the proposed priority and this final priority as discussed in the Analysis of Comments and Changes section elsewhere in this notice.

Public Comment: In response to our invitation in the notice of proposed priority, three parties submitted comments on the proposed priority.

Generally, we do not address technical and other minor changes.

Analysis of Comments and Changes: An analysis of the comments and any changes in the priority since publication of the notice of proposed priority follows.

Comment: A commenter endorsed the proposed priorities and expressed appreciation for the Department of Education's efforts to facilitate stronger participation of MSIs. In addition, the commenter urged us to use these priorities as absolute or competitive preference priorities.

Discussion: We appreciate the commenter's support. However, it is our practice to specify the priority types for each competition in the notice inviting applications, not in an NFP.

Changes: None.

Comment: One commenter suggested that we include a priority for applications that include collaboration activities with MSIs to enhance access to international activities and foreign language learning.

Discussion: We agree with the commenter and believe that the final priority, consistent with the proposed priority, clearly accomplishes this goal.

Change: None.

Comment: One commenter suggested that it would be helpful if we provide a list of institutions eligible under Title III, part A; Title III, part B; and Title V of the Higher Education Act of 1965, as amended (HEA).

Discussion: We agree that making this information readily available to applicants will help them in addressing and meeting this priority.

Change: None. We will provide the information on the institutions that currently meet this definition in the Federal Register notice inviting applications (NIA).

Comment: One commenter recommended that we remove the singular modifier before minority-serving institutions (MSIs) and before community college to clarify that collaborative activities may be proposed with more than one MSI or more than one community college.

Discussion: We agree with the commenter's suggestion and are making this change to ensure we do not limit the number of entities that are able to collaborate under this priority.

Change: We have revised this priority to make it clear that an institution can collaborate with multiple MSIs or community colleges.

Comment: One commenter encouraged the Department to consider as broad a definition of MSI as possible so as to provide the greatest opportunities for applicant institutions to positively influence students and instructors alike at these underserved institutions.

Discussion: We believe that the definition of an MSI to be used with this priority will serve a wide range of institutions and fulfill the Department's intention of addressing the gap in the types of institutions, faculty, and students that have historically benefitted from the instruction, training, and outreach available at LRCs. Institutions that are eligible to receive assistance under Title III, part A; Title III part B; and Title V of the HEA include MSIs, Historically Black Colleges and Universities (HBCUs), predominately black institutions, Hispanic-serving institutions, and tribal colleges, among others. This range of institutional types provides sufficient options to language resource center institutions in terms of collaboration. Considering, too, that community colleges are included in this priority, there is flexibility, opportunity, and latitude for the Language Resource Center institutions to meet the intended outcomes of this priority. We, therefore, do not agree that the definition of an MSI for the purposes of this proposed priority is too narrow.

Change: None.

Comment: None.

Discussion: Based on internal deliberation, and consistent with a change made to a similar priority for the National Resource Centers program in response to a comment, we have revised the final priority to allow an applicant that itself is an MSI or community college to propose to meet the priority by conducting intra-campus collaborative activities instead of, or in addition to, collaborative activities with other MSIs or community colleges. An example of an intra-campus collaborative activity would be a project involving the faculty in the Department of Social Sciences and the Yoruba language instructors to develop a language across the curriculum course about human rights issues in Africa.

Changes: We have revised the priority language to permit institutions that are MSIs or community colleges to propose intra-campus collaborative activities instead of, or in addition to, collaborative activities with other MSIs or community colleges.

Final Priority

Final Priority

Applications that propose significant and sustained collaborative activities with one or more Minority-Serving Institutions (MSIs) (as defined in this notice) or with one or more community colleges (as defined in this notice).

These activities must be designed to incorporate foreign languages into the curriculum at the MSI(s) or community college(s), and to improve foreign language instruction at the MSI(s) or community college(s). If an applicant institution is an MSI or a community college (as defined in this notice), that institution can meet the intent of this priority by proposing intra-campus collaborative activities instead of, or in addition to, collaborative activities with other MSIs and/or community colleges.

For the purpose of this priority:

Community college means an institution that meets the definition in section 312(f) of the Higher Education Act of 1965, as amended (HEA) (20 U.S.C. 1058(f)); or an institution of higher education (as defined in section 101 of the HEA (20 U.S.C. 1001)) that awards degrees and certificates, more than 50 percent of which are not bachelor's degrees (or an equivalent) or master's, professional, or other advanced degrees.

Minority-Serving Institution means an institution that is eligible to receive assistance under sections 316 through 320 of part A of Title III, under part B of Title III, or under Title V of the HEA.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use one or more of these priorities, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive Order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 3, 2014.
Lynn B. Mahaffie,
Senior Director, Policy Coordination, Development, and Accreditation Service, delegated the authority to perform the functions and duties of the Assistant Secretary for Postsecondary Education.

[FR Doc. 2014-13208 Filed 6-5-14; 8:45 am]

BILLING CODE 4000-01-P